DEPARTMENT OF ENERGY

Bonneville Power Administration

Lyle Falls Fish Passage Project

AGENCY: Bonneville Power Administration (BPA), Department of Energy (DOE).

ACTION: Notice of availability of Record of Decision (ROD).

SUMMARY: This notice announces the availability of the ROD to implement the Proposed Action identified in the Lyle Falls Fish Passage Project EIS (DOE/EIS-0397, November 2008). BPA has decided to fund modifications to the existing Lyle Falls Fishway on the lower Klickitat River (river mile 2.2) in Klickitat County, Washington to improve fish passage to the upper part of the Klickitat River watershed. In addition to improving fish passage, the modifications will facilitate collection and monitoring of biological information for future fishery management and enhance opportunities for adult salmonids to access and use habitat in the upper Klickitat River. The EIS was cooperatively prepared by BPA, the Confederated Tribes and Bands of the Yakama Nation (Yakama Nation), the U.S. Forest Service (USFS), and the Washington Department of Fish and Wildlife (WDFW).

ADDRESSES: Copies of the ROD and EIS may be obtained by calling BPA's toll-free document request line, 1-800-622-4520. The ROD and EIS Summary are also available on our Web site, http://www.efw.bpa.gov/environmental_services/Document_Library/Lyle_Falls/.

FOR FURTHER INFORMATION, CONTACT: Mr. Carl J. Keller, Environmental Project Manager, Bonneville Power Administration KEC-4, P.O.Box 3621, Portland, Oregon 97208-3621; telephone number 1-503-230-7692; fax number 503-230-5699; or e-mail cjkeller@bpa.gov.

SUPPLEMENTARY INFORMATION: The lower 10.8 miles of the Klickitat River are designated as a recreational river segment under the National Wild and Scenic Rivers Act. The USFS administers this portion of the Klickitat River and its corridor. The fishway at Lyle Falls is owned by WDFW and operated by the Yakama Nation. The existing fishway does not function effectively, particularly during low flows, and does not comply with fish passage standards established by the National Marine Fisheries Service and WDFW. The improvements will facilitate migration for spring and fall Chinook salmon, coho salmon, steelhead trout, Pacific lamprey, and bull trout, but the primary benefits will be to fall Chinook and coho salmon.

In addition to increasing fish production in the Klickitat River, the project will contribute to an increase in fish production in the Columbia River Basin. The project will also help BPA fulfill its Federal Columbia River Power System off-site mitigation responsibilities under the Pacific Northwest Electric Power Planning and Conservation Act, and its responsibilities under the Endangered Species Act.

Issued in Portland, Oregon, on February 20, 2009.
Stephen J. Wright,
Administrator and Chief Executive Officer.

[FR Doc. E9-4324 Filed 2-27-09; 8:45 am]

BILLING CODE 6450-01-P